DEPARTMENT OF THE INTERIOR

Fish and Wildlife Service

Reevaluation of the Record of Decision for the Final Environmental Impact Statement and Selection of Alternative for Grizzly Bear Recovery in the Bitterroot Ecosystem

AGENCY: Fish and Wildlife Service, Interior.

ACTION: Notice of intent.

SUMMARY: A Final Environmental Impact Statement (FEIS), published in March 2000, evaluated a proposal to establish an experimental population rule and reintroduce grizzly bears into the Bitterroot Ecosystem (BE) in east-central Idaho and western Montana. The Preferred Alternative, selected in the Record of Decision (ROD) published November 17, 2000 (65 FR 69644), was to establish a nonessential experimental population of grizzlies in the BE under section 10(j) of the Endangered Species Act. A final rule to implement the Preferred Alternative was published in the Federal Register on November 17, 2000 (65 FR 69623), and is codified at 50 CFR 17.84(l). We, the U.S. Fish and Wildlife Service (Service), have reevaluated our decision with respect to grizzly bear recovery in the BE. This change is based on the Service's need to prioritize its recovery activities for grizzly bears, and the objections of affected States to the reintroduction of grizzly bears. We are now proposing to select the No Action Alternative as our Preferred Alternative. We are opening a public comment period and, after receipt and review of all comments, the Service will make a final decision with regard to this proposal.

DATES: Public comments will be accepted in writing on or before August 21, 2001. We particularly request written comments on (1) new information on the impacts of the No Action Alternative and (2) this proposal to select the No Action alternative.

ADDRESSES: Written comments should be addressed to Assistant Regional Director, Ecological Services, U.S. Fish and Wildlife Service, Box 25486 DFC, Denver, Colorado 80225. Comments also may be mailed electronically to FW6_grizzly@fws.gov. The Final EIS, Record of Decision, and final rule are available for viewing and downloading at http://www.r6.fws.gov/endspp/grizzly/. Comments and materials received are available on request for public inspection, by appointment, during normal business hours at the above address.

FOR FURTHER INFORMATION CONTACT: Susan Baker, Assistant Regional Director, Ecological Services (see ADDRESSES above) at telephone 303-236-7400.

SUPPLEMENTARY INFORMATION:

Background

A Recovery Plan for the Grizzly Bear was finalized in 1982. This plan called for the evaluation of the Selway-Bitterroot ecosystem as a potential recovery area. It identified the Bitterroot Ecosystem (BE) as a recovery area for bears and states that bears are not currently known to be present in that ecosystem. We revised the Grizzly Bear Recovery Plan in 1993 and in 1996 produced the Bitterroot Ecosystem Recovery Plan Chapter as an appendix. This Chapter called for the reintroduction of a small number of grizzly bears into the BE as an experimental, nonessential population under section 10(j) of the Act and the preparation of a special rule and an Environmental Impact Statement (EIS) on this proposal. In general, establishing a nonessential experimental population may result in more flexible management practices to address potential negative impacts or concerns during a species' recovery. The Chapter identified a tentative long-term recovery objective of approximately 280 grizzly bears for the BE.

A Final Environmental Impact Statement (FEIS), published in March 2000 (see 65 FR 12570, March 9, 2000), evaluated a proposal to establish an experimental population rule and reintroduce grizzly bears into the BE in east-central Idaho and western Montana. Six alternatives were discussed: (1) Restoration of Grizzly Bears as a Nonessential Experimental Population with Citizen Management (Preferred Alternative); (1A) Restoration of Grizzly Bears as a Nonessential Experimental Population with Service Management; (2) Natural Recovery—The No Action Alternative; (3) No Grizzly Bear Alternative; (4) Restoration of Grizzly Bears as a Threatened Population with Full Protection of the Act and Habitat Restoration; and (4A) Restoration of Grizzly Bears as a Threatened Population with Full Protection of the Act and Service Management.

On November 13, 2000, the Service signed the Record of Decision (ROD) on the Final EIS, and selected the Preferred Alternative (Alternative 1 in the Final EIS) for implementation. This alternative was the Restoration of Grizzly Bears as a Nonessential Experimental Population with Citizen Management. Reintroduction could result in grizzly bear recovery in the BE in a minimum of 50 years. (See FEIS for more detailed information). In order to implement the Proposed Action Alternative in the FEIS, the Service was required to publish a regulation to establish a nonessential experimental population of grizzly bears under section 10(j) of the Act. Section 10(j) of the ESA says that the Secretary may authorize the release of a population if it will further recovery. Thus, establishment of an experimental population is a discretionary action.

The ROD identified the Proposed Alternative as the best balance between Service recovery goals and public needs at that time. Failure to reestablish grizzly bears in the BE does not appreciably diminish the survival probabilities of bears in the other occupied ecosystems. However, recovery of grizzly bears in the BE would have added an additional measure of security for the species over the long term. In the ROD we said that implementation of the Preferred Alternative was contingent upon adequate funding, so that the current level of Service activities in other grizzly bear recovery areas would not be compromised. We also stated that bears would be reintroduced in 2002 at the earliest, again contingent upon available funding.

Recovery Priorities

The Grizzly Bear Recovery Plan identifies six ecosystems in the United States as recovery areas for bears. Of those, only two—the Northern Continental Divide Ecosystem (NCDE) and Yellowstone Ecosystem (YGBE)—are believed to have stable or increasing populations of grizzlies. Many people believe that the population in Yellowstone has met all of its recovery criteria. We have not yet statistically quantified the size and growth rates of the NCDE population. Three other ecosystems, the Cabinet-Yaak, Selkirk, and North Cascades, have smaller bear populations and a higher level of threats than the NCDE and YGBE recovery areas. In fact, there may not be a permanent population of bears in the section of the North Cascades Ecosystem in the United States; however, bears may occasionally move back and forth from the adjacent Canadian section of the Ecosystem. The status of bears in all three of these ecosystems has been evaluated recently and bears in all three areas were found to warrant listing as endangered, rather than their current designation as threatened (66 FR 1295, January 8, 2001). To date, no action to change their status has occurred, due to other higher priority actions in the listing program. In the 1993 Grizzly Bear Recovery Plan, we state that funds will only be expended contingent upon appropriations, priorities, and other budgetary constraints.

While the ESA requires us to carry out recovery actions for listed species, we have the discretion and flexibility to identify the highest priority recovery activities and to determine if experimental populations should be established. The Service believes that addressing identified recovery needs in the ecosystems that already contain grizzly bears is a high priority. Examples of recovery activities in these ecosystems that should be given priority may include: ongoing mark-recapture population estimation studies in the YGBE; ongoing genetic studies for population size estimation in the NCDE; or finalization and printing of the interagency Conservation Strategy for management of bears inside the YGBE recovery area after delisting occurs. Accordingly, we have determined that it is not prudent or consistent with our recovery priorities to establish a new grizzly population in the Bitterroot Ecosystem at this time. To the extent that funding is available, the Service intends to apply it to the activities identified above, as well as to other priority actions to recover grizzly bears in those ecosystems where grizzlies are currently found.

We remain firmly committed to the recovery of grizzly bears in the lower 48 States. However, we strongly believe that the only way to effectively recover grizzly bears is with the help and support of affected States. In order to achieve this, we will continue to work in close cooperation and consultation with States and local governments. As we look toward future recovery efforts, we also plan to explore our full range of options for recovery, including focusing increased efforts such as relocation, augmentation, or reintroduction of grizzly bears in some or all of the six identified recovery areas for grizzly bears as priorities, need, and resources dictate.

Proposed Action

We are proposing to select the No Action Alternative in the Bitterroot FEIS at this time as our Preferred Alternative. This alternative assumes that current management activities will continue for at least the next 50 years. The overall environmental effects of taking no action would likely result in no recovery of grizzly bears in the BE in the near future, although grizzly bears may begin to repopulate the area in 50 or more years. If grizzly bears did naturally disperse to the BE, they would be protected as threatened under the ESA. (See FEIS for a thorough evaluation of this alternative.) If we select the No Action Alternative, we will remove section 17.84(l) from title 50 of the Code of Federal Regulations (CFR). (See related proposed rule elsewhere in this edition of the Federal Register). This does not mean that we are permanently precluding a reintroduced population of grizzly bears in the Bitterroot Ecosystem.

Authority

The authority for this action is the Endangered Species Act of 1973, U.S.C. 1533.

Dated: June 18, 2001.
Joseph E. Doddridge,
Acting Assistant Secretary for Fish and Wildlife and Parks.

[FR Doc. 01-15909 Filed 6-21-01; 8:45 am]

BILLING CODE 4310-55-U